DEPARTMENT OF DEFENSE

Department of the Army, Corps of Engineers

Notice of Availability of the Final Environmental Impact Statement, Dated April 2006, for Commercial Sand and Gravel Dredging Operations in the Allegheny and Ohio Rivers, PA

AGENCY: U.S. Army Corps of Engineers, DOD.

ACTION: Notice of availability.

SUMMARY: The U.S. Army Corps of Engineers, Pittsburgh District (Corps) is issuing this notice to advise the public that a final Environmental Impact Statement (EIS) has been completed and is available for review in compliance with the National Environmental Policy Act (NEPA). The overall purpose of the EIS is to evaluate the environmental consequences for issuing of Section 10 and 404 permits for Commercial Sand and Gravel Dredging in the Allegheny River (River Miles 0-69.5) and the Ohio River (River Miles 0-40).

DATES: Submit comments by May 22, 2006.

ADDRESSES: U.S. Army Corps of Engineers, Pittsburgh District; ATTN: Regulatory Branch; 1000 Liberty Avenue; Pittsburgh, PA 15222-4186. Comments may also be submitted by electronic mail to Scott.A.Hans@usace.army.mil.

FOR FURTHER INFORMATION CONTACT: Mr. Scott Hans, Pittsburgh District Regulatory Branch, at (412) 395-7154.

SUPPLEMENTARY INFORMATION: The Corps circulated a draft Environmental Impact Statement on Commercial Sand and Gravel Dredging Operations for comment in June of 2002. Based on comments received and additional environmental review, a new alternative was developed. This alternative is identified as Alternative 3 in the final EIS, and is the selected or preferred alternative. Under this alternative the Corps could re-authorize Department of the Army permits to Hanson Aggregates PMA, Inc., Tri-State River Products, Inc., and Glacial Sand and Gravel Company for commercial dredging activities within portions of the Ohio and Allegheny Rivers within Pennsylvania. Such authorization would include new standard conditions and additional site specific conditions developed through an adaptive management process. Such conditions should avoid, minimize and mitigate for potential adverse environmental impacts associated with the dredging.

The EIS is available for review online at http://www.lrp.usace.army.mil/sg_eis.htm. Printed and compact disc (CD) copies of the EIS are available for review at the following locations:

• U.S. Army Corps of Engineers, Pittsburgh District, 2200 William S. Moorhead Federal Building, 1000 Liberty Avenue, Pittsburgh, PA 15222

• Carnegie Library of Pittsburgh, 4400 Forbes Avenue, Pittsburgh, PA 15213

• Carnegie Library of Pittsburgh, 5 Allegheny Square, Pittsburgh, PA 15212

• Oakmont Public Library, 700 Allegheny River Blvd., Oakmont, PA 15139

• Springdale Free Public Library, 331 School Street, Springdale, PA 15144

• People's Library, 3052 Wachter Avenue, New Kensington, PA 15068

• People's Library, 880 Barnes Street, New Kensington, PA 15068

• Community Library of Allegheny, 1522 Broadview Blvd., Natrona Heights, PA 15065

• Freeport Area Library, 428 Market Street, Freeport, PA 16229

• Ford City Public Library, 1136 4th Avenue, Ford City, PA 16226

• Kittanning Public Library, 280 N. Jefferson Street, Kittanning, PA 16201

• Sewickley Public Library, 500 Thorn Street, Sewickley, PA 15143

• Beaver Area Memorial Library, 100 College Avenue, Beaver, PA 15009

• Monaca Public Library, 609 Pennsylvania Avenue, Monaca, PA 15061

• Rochester Public Library, 252 Adams Street, Rochester, PA 15074

• New Brighton Public Library, 1021 3rd Avenue, New Brighton, PA 15066

• Baden Memorial Library, 385 State Street, Baden, PA 15005

• B. F. Jones Memorial Library, 663 Franklin Avenue, Aliquippa, PA 15001

• Carnegie Free Library, 61 9th Street, Midland, PA 15059

• Laughlin Memorial Free Library, 99 11th Street, Ambridge, PA 15003

A printed copy or CD of the EIS may be obtained by contacting Mr. Hans in writing at the mailing or electronic mail address provided above.

Dated: April 27, 2006.
David B. Olson,
Federal Register Liaison Officer, U.S. Army Corps of Engineers.

[FR Doc. E6-6622 Filed 5-1-06; 8:45 am]

BILLING CODE 3710-92-P